DEPARTMENT OF JUSTICE

Drug Enforcement Administration

Importer of Controlled Substances; Notice of Registration; Cody Laboratories, Inc.

By Notice dated July 17, 2012, and published in the Federal Register on July 26, 2012, 77 FR 43861, Cody Laboratories, Inc., 601 Yellowstone Avenue, Cody, Wyoming 82414-9321, made application by renewal to the Drug Enforcement Administration (DEA) to be registered as an importer of the following basic classes of controlled substances:

Drug | Schedule
Opium, raw (9600) | II
Concentrate Poppy Straw (9670) | II
Tapentadol (9780) | II

The company plans to import narcotic raw materials for manufacturing and further distribution to its customers.

The company is registered with DEA as a manufacturer of several controlled substances that are manufactured from opium raw, and poppy straw concentrate.

The company plans to import an intermediate form of Tapentadol (9780) to bulk manufacture Tapentadol for distribution to its customers.

Comments and requests for hearings on applications to import narcotic raw material are not appropriate, 72 FR 3417 (2007). Regarding Tapentadol, no comments or objections have been received. DEA has considered the factors in 21 U.S.C. 823(a) and 952(a) and determined that the registration of Cody Laboratories, Inc., to import the basic classes of controlled substances is consistent with the public interest and with United States obligations under international treaties, conventions, or protocols in effect on May 1, 1971.

DEA has investigated Cody Laboratories, Inc., to ensure that the company's registration is consistent with the public interest. The investigation has included inspection and testing of the company's physical security systems, verification of the company's compliance with state and local laws, and a review of the company's background and history.

Therefore, pursuant to 21 U.S.C. 952(a) and 958(a), and in accordance with 21 CFR 1301.34, the above named company is granted registration as an importer of the basic classes of controlled substances listed.

Dated: September 25, 2012.
Joseph T. Rannazzisi,
Deputy Assistant Administrator, Office of Diversion Control, Drug Enforcement Administration.

[FR Doc. 2012-24195 Filed 10-1-12; 8:45 am]

BILLING CODE 4410-09-P